DEPARTMENT OF COMMERCE

National Oceanic and Atmospheric Administration

[I.D. 120304A]

Endangered and Threatened Species; Take of Anadromous Fish

AGENCY: National Marine Fisheries Service (NMFS), National Oceanic and Atmospheric Administration (NOAA), Commerce.

ACTION: Application for enhancement of survival permit.

SUMMARY: Notice is hereby given that NMFS has received an application for an enhancement of survival permit from the Lower Columbia Fisheries Enhancement Group (LCFEG). The proposed action is intended to enhance and restore salmonid habitat in southwest Washington.

DATES: Comments or requests for a public hearing on the application request must be received at the appropriate address or fax number (see ADDRESSES) no later than 5 p.m. Pacific daylight-saving time on January 27, 2005.

ADDRESSES: Written comments on the application should be sent to Habitat Conservation Division, NMFS, 510 Desmond Drive SE, Suite 103, Lacy, WA 98503. Comments may also be sent via fax to 360-753-9517 or by e-mail to stephanie.ehinger@noaa.gov.

FOR FURTHER INFORMATION CONTACT: Stephanie Ehinger, Lacey, WA (phone: 360-534-9341, fax: 360-753-9517, e-mail: stephanie.ehinger@noaa.gov); or Dan Guy at the same office (phone: 360-534-9342, email: dan.guy@noaa.gov).

SUPPLEMENTARY INFORMATION:

Species Covered in this Notice

The following listed species are covered in this notice:

Chinook salmon (Oncorhynchus tshawytscha): Threatened Lower Columbia River (LCR).

Steelhead (O. mykiss): Threatened LCR.

Coho (O. kisutch): Proposed threatened LCR.

Authority

Scientific research and enhancement of survival permits are issued in accordance with section 10(a)(1)(A) of the Endangered Species Act of 1973 (16 U.S.C. 1531 et seq.) (ESA) and regulations governing listed fish and wildlife permits (50 CFS 222-226). NMFS issues permits based on findings that such permits/modifications: (1) are applied for in good faith; (2) if granted and exercised, would not operate to the disadvantage of the listed species that are the subject of the permits; and (3) are consistent with the purposes and policies set forth in section 2 of the ESA. The authority to take listed species is subject to conditions set forth in the permits.

Anyone requesting a hearing on the application listed in this notice should set out the specific reason why a hearing would be appropriate (see ADDRESSES). The holding of such a hearing is at the discretion of the Assistant Administrator for Fisheries, NOAA.

Application Received

The LCFEG is requesting a 5-year permit to annually take juvenile threatened LCR chinook salmon, threatened LCR steelhead, and proposed threatened LCR coho. They propose to undertake projects that will enhance and restore salmon habitat in southwest Washington. The primary tributaries they propose to work in are the Washougal, Lewis, Kalama, Cowlitz, Toutle, Elochman, Grays, and Chinook River watersheds. The LCFEG is one of 14 Regional Fisheries Enhancement Group's (RFEG's) created by the Washington State legislature in 1990. Each RFEG is an independent 501(c)(3) non-profit organization with the mission to increase salmonid populations.

The proposed projects were developed using the Lead Entity's Interim Strategy for Habitat Restoration (http://www.lcfrb.gen.wa.us.gtml) and the Limiting Factors Analysis completed by the Washington State Conservation Commission (http://salmon.scc.wa.gov/reports/index.html).

The projects would be carefully monitored, and the LCFEG would provide annual reports to NMFS so that the actions can be evaluated and, if needed, modified. The LCFEG will also monitor take and provide NMFS with annual reports stating the take types and amounts.

The proposed activities will be carried out solely for the benefit of listed salmon; that is, for the enhancement of survival of listed salmonids. The LCFEG will take specific measures such as designing, scheduling, and sequencing construction work to minimize any adverse impacts. Complete details of conservation measures are provided in the permit application.

This notice is provided pursuant to section 10 (c) of the ESA. NMFS will evaluate the application, associated documents and comments submitted to determine whether the application meets the requirements of section 10 (a) of the ESA and Federal regulations. The final permit decision will not be made until after the end of the 30-day comment period. NMFS will publish notice of its final action in the Federal Register.

Dated: December 21, 2004.
Phil Williams,
Chief, Endangered Species Division, Office of Protected Resources, National Marine Fisheries Service.

[FR Doc. 04-28369 Filed 12-27-04; 8:45 am]

BILLING CODE 3510-22-S